INTERNATIONAL TRADE COMMISSION

Submission of Questionnaire for OMB Review

AGENCY: United States International Trade Commission.

ACTION: In accordance with the provisions of the Paperwork Reduction Act of 1995 (44 U.S.C. Chapter 35), the U.S. International Trade Commission (Commission) hereby gives notice that it has submitted a request for approval of a questionnaire to the Office of Management and Budget for review.

Purpose of Information Collection: The information requested by the questionnaire is for use by the Commission in connection with analysis of the effectiveness of Section 337 remedial exclusion orders, issued under the authority of section 337 of the Tariff Act of 1930 (19 U.S.C. 1337).

Summary of Proposal:

(1) Number of forms submitted: two

(2) Title of forms: 2013 USITC Survey Regarding Outstanding ' 337 Exclusion Orders (General Exclusion Order) and 2013 USITC Survey Regarding Outstanding ' 337 Exclusion Orders (Limited Exclusion Order)

(3) Type of request: new

(4) Frequency of use: survey, single data gathering, scheduled for FY 2013

(5) Description of responding firms: complainants that obtained exclusion orders from the Commission following investigations under Section 337 that remain in effect at the time of the survey

(6) Estimated number of responding firms: 86

(7) Estimated number of hours to complete the forms: 1 hour or less per responding firm

(8) Information obtained from the questionnaire that qualifies as confidential business information will be so treated by the Commission and not disclosed in a manner that would reveal the individual operations of a firm

Additional Information or Comment: Copies of the questionnaire are posted on the Commission=s Internet server at http://pubapps2.usitc.gov/comments-misc-042 or may be obtained from Anne Goalwin, Acting Director, Office of Unfair Import Investigations, U.S. International Trade Commission, 500 E Street SW., Washington, DC 20436, telephone, 202-205-2574. Comments about the proposals should be directed to the Office of Management and Budget, Office of Information and Regulatory Affairs, Room 10102 (Docket Library), Washington, DC 20503, Attention: Docket Librarian. All comments should be specific, indicating which part of the questionnaire is objectionable, describing the concern in detail, and including specific suggested revisions or language changes. Copies of any comments should be provided to Andrew Martin, Chief Information Officer, U.S. International Trade Commission, 500 E Street SW., Washington, DC 20436, who is the Commission's designated Senior Official under the Paperwork Reduction Act.

General information concerning the Commission may also be obtained by accessing its Internet address (http://www.usitc.gov). Hearing impaired individuals are advised that information on this matter can be obtained by contacting the TDD terminal on 202-205-1810. Persons with mobility impairments who will need special assistance in gaining access to the Commission should contact the Secretary at 202-205-2000.

Issued: July 31, 2013
By order of the Commission.
Lisa R. Barton,
Acting Secretary to the Commission.

[FR Doc. 2013-18889 Filed 8-5-13; 8:45 am]

BILLING CODE 7020-02-P